DEPARTMENT OF DEFENSE

GENERAL SERVICES ADMINISTRATION

NATIONAL AERONAUTICS AND SPACE ADMINISTRATION

[OMB Control No. 9000-0089; Docket No. 2010-0083; Sequence 29]

Information Collection; Request for Authorization of Additional Classification and Rate, Standard Form 1444

AGENCY: Department of Defense (DOD), General Services Administration (GSA), and National Aeronautics and Space Administration (NASA).

ACTION: Notice of request for public comments regarding a reinstatement to an existing OMB clearance.

SUMMARY: Under the provisions of the Paperwork Reduction Act of 1995 (44 U.S.C. Chapter 35), the Regulatory Secretariat will be submitting to the Office of Management and Budget (OMB) a request to review and approve a reinstatement of a previously approved information collection requirement concerning Request for Authorization of Additional Classification and Rate, Standard Form 1444.

DATES: Comments may be submitted on or before January 7, 2011.

ADDRESSES: Submit comments identified by Information Collection 9000-0089 by any of the following methods:

• Regulations.gov: http://www.regulations.gov. Submit comments via the Federal eRulemaking portal by inputting “Information Collection 9000-0089” under the heading “Enter Keyword or ID” and selecting “Search”. Select the link “Submit a Comment” that corresponds with “Information Collection 9000-0089”. Follow the instructions provided at the “Submit a Comment” screen. Please include your name, company name (if any), and “Information Collection 9000-0089” on your attached document.

• Mail: General Services Administration, Regulatory Secretariat (MVCB), 1275 First Street, NE., Washington, DC 20417. ATTN: Hada Flowers/IC 9000-0089.

Instructions: Please submit comments only and cite Information Collection 9000-0089, in all correspondence related to this collection. All comments received will be posted without change to http://www.regulations.gov, including any personal and/or business confidential information provided.

FOR FURTHER INFORMATION CONTACT: Mr. Ernest Woodson, Procurement Analyst, Contract Policy Branch, GSA, (202) 501-3775 or e-mail ernest.woodson@gsa.gov.

SUPPLEMENTARY INFORMATION:

A. Purpose

This regulation prescribes labor standards for federally financed and assisted construction contracts subject to the Davis-Bacon and Related Acts (DBRA), as well as labor standards for nonconstruction contracts subject to the Contract Work Hours and Safety Standards Act (CWHSSA).

The recordkeeping requirements in this regulation, 48 CFR ch. 1, section 22.406, are a restatement of requirements cleared under OMB control numbers 1215-0140, 1215-0149, and 1215-0017 for 29 CFR 5.5(a)(1)(i), 5.5(c), and 5.15 (records to be kept by employers under the Fair Labor Standards Act (FLSA), 29 CFR 516, which is the basic recordkeeping regulation for all the laws administered by the Wage and Hour Division of the Employment Standards Administration).

48 CFR ch. 1, section 22.406-3, implements the recordkeeping and information collection requirements prescribed in 29 CFR 5.5(a)(1)(iii) cleared under OMB control number 1215-0140 (also prescribed at 48 CFR 22.406 under OMB control number 9000-0089), by providing SF 1444, Request for Authorization of Additional Classification and Rate, for the contractor and the Government to enter the recordkeeping and information collection data required by 29 CFR 5.5(a)(1)(ii) prior to transmitting the data to the Department of Labor.

This SF 1444 places no further burden on the contractor or the Government other than the information collection burdens already cleared by OMB for 29 CFR part 5.

B. Annual Reporting Burden

There is no burden placed on the public beyond that prescribed by the Department of Labor regulations.

Number of Respondents: 2599.

Responses per Respondent: 1.

Total Responses: 2599.

Average Burden Hours per Response: .5.

Total Burden Hours: 1300.

The burden hour is estimated to be time necessary for the contractor to prepare and submit the form.

Obtaining Copies of Proposals: Requester may obtain a copy of the justification from the General Services Administration, Regulatory Secretariat (MVCB), 1275 First Street, NE., Washington, DC 20417, telephone (202) 501-4755. Please cite OMB Control No. 9000-0089, Request for Authorization of Additional Classification and Rate, Standard Form 1444, in all correspondence.

Dated: November 2, 2010.
Edward C. Loeb,
Director, Acquisition Policy Division.

[FR Doc. 2010-28105 Filed 11-5-10; 8:45 am]

BILLING CODE 6820-34-P